AGENCY FOR INTERNATIONAL DEVELOPMENT

Information Collection Request; 60-Day Notice and Request for Comments

AGENCY: United States Agency for International Development/Nigeria Mission (USAID/Nigeria).

ACTION: Notice of information collection; request for comment.

SUMMARY: The U.S. Agency for International Development/Nigeria Mission (USAID/Nigeria), as part of the Agency's continuing effort to reduce paperwork and respondent burden, invites the general public and other Federal agencies to take this opportunity to comment on the following new information collection, as required by the Paperwork Reduction Act of 1995. Comments are requested concerning: Whether the proposed or continuing collections of information are necessary for the proper performance of the functions of the agency, including whether the information shall have practical utility; the accuracy of the burden estimates; ways to enhance the quality, utility, and clarity of the information collected; and ways to minimize the burden of the collection of the information on the respondents.

DATES: All comments should be submitted within 60 calendar days from the date of this publication.

ADDRESSES: To access and review the electronic Google forms survey tool, please, use: https://docs.google.com/forms/d/1yLickwSlp8zgZfOp_I8QGE3uJKC5XHMSVglgDVbeKoo/edit?usp=sharing. Interested persons are invited to submit comments regarding the proposed information collection to Tessie Kuhe, Gender and Inclusive Development Advisor, USAID/Nigeria Program Office at tkuhe@usaid.gov.

FOR FURTHER INFORMATION CONTACT: For specific questions related to collection activities, please contact Tessie Kuhe, Gender and Inclusive Development Advisor, USAID/Nigeria Program Office at tkuhe@usaid.gov or +234 814 957 6062.

SUPPLEMENTARY INFORMATION: Title of Collection: USAID/Nigeria Implementing Partner Gender and Inclusion Survey.

OMB Number: Not yet known.

Expiration Date: Not yet known.

Type of Request: New collection.

Form Number: Not yet known.

Affected Public: Gender Focal Points of USAID/Nigeria Implementing Partners in Nigeria.

Estimated Number of Respondents: 50.

Estimated Total Annual Burden Hours: 20-25 hours.

Abstract: The USAID/Nigeria Mission is conducting an Implementing Partner Gender and Inclusion Survey to understand the extent to which gender and inclusion are being integrated by Implementing Partners into its Activities in Nigeria. The information will be used for planning and policy development purposes by USAID//Nigeria under its 2020-2025 Country Development and Cooperation Strategy (CDCS). If the collection is not conducted, it will affect the ability of USAID/Nigeria to do adaptive planning and policy development. Method of collection will be electronic using Google forms survey. The data will be collected and maintained by the USAID/Nigeria Program Office on their Google platform.

Dated: July 6, 2022.
Tessie Kuhe,
Gender and Inclusive Development Advisor, USAID/Nigeria Program Office.

[FR Doc. 2022-14785 Filed 7-11-22; 8:45 am]

BILLING CODE 6116-02-P